DEPARTMENT OF DEFENSE

Office of the Secretary

[Docket ID DoD-2014-OS-0129]

Notice of Availability (NOA) for Finding of No Significant Impact (FONSI) for the Environmental Assessment (EA) Addressing Implementation of the Real Property Master Plan at Defense Distribution Center, Susquehanna, Pennsylvania

AGENCY: Defense Logistics Agency (DLA), Department of Defense.

ACTION: Notice of Availability (NOA) for Finding of No Significant Impact (FONSI) for the Environmental Assessment (EA) Addressing Implementation of the Real Property Master Plan at Defense Distribution Center, Susquehanna, Pennsylvania.

SUMMARY: On August 26, 2014, DLA published an NOA in the Federal Register (79 FR 50895) announcing the publication of the EA Addressing Implementation of the Real Property Master Plan (RPMP) at Defense Distribution Center, Susquehanna, Pennsylvania. The EA was available for a 30-day public comment period that ended September 25, 2014. The EA was prepared as required under the National Environmental Policy Act (NEPA) of 1969. In addition, the EA complied with DLA Regulation (DLAR) 1000.22. No comments were received during the public comment period. This FONSI documents the decision of DLA to implement the RPMP and its component plans at Defense Distribution Center, Susquehanna, Pennsylvania. DLA has determined that the Proposed Action is not a major Federal action significantly affecting the quality of the human environment within the context of NEPA and that no significant impacts on the human environment are associated with this decision.

FOR FURTHER INFORMATION CONTACT: Ira Silverberg at 703-767-0705 during normal business hours Monday through Friday, from 8:00 a.m. to 4:30 p.m. (EST) or by email: ira.silverberg@dla.mil.

SUPPLEMENTARY INFORMATION: DLA completed an EA to address the potential environmental consequences associated with the proposed implementation of the RPMP and its component plans at Defense Distribution Center, Susquehanna, Pennsylvania. This FONSI incorporates the EA by reference and summarizes the results of the analyses in the EA.

Purpose and Need for Action: The purpose of the Proposed Action is to implement the installation's RPMP and its component plans to establish a foundation providing direction for the future development of the facilities, infrastructure, transportation system, and environmental conditions at Defense Distribution Center, Susquehanna, Pennsylvania. The Proposed Action is needed to ensure that the installation is able to meet its current and future mission requirements while protecting its natural resources and ensuring the energy efficiency and sustainability of the installation.

Proposed Action and Alternatives: Under the Proposed Action, the DLA would implement the installation's RPMP and its component plans. The RPMP provides the direction for the future development of the installation over the next 20 to 30 years and identifies a series of building, infrastructure, and transportation projects that would ensure that the installation is able to meet its current and future mission requirements in a sustainable and environmentally conscious manner.

Implementing the projects in the RPMP would replace undersized, outdated buildings and infrastructure with modern, energy-efficient, sustainable buildings and infrastructure. The proposed projects include the construction of 4,201,966 square feet of buildings and the demolition of 2,503,790 square feet of buildings, which would result in an increase in impervious surface, including more parking spaces. Additionally, the proposed projects include a transit and non-motorized transportation system consisting of two transit hubs; multiple bus stops; a variety of bus, pedestrian, and bicycle routes; and rail access to reduce truck conveyance.

Component plans of the RPMP include the Net-Zero Energy Plan (NZEP), Sustainability Plan (SP), Integrated Natural Resources Management Plan (INRMP), and Integrated Pest Management Plan (IPMP) for the installation. The NZEP balances the installation's future energy demand from buildings, industrial processes, fleet vehicles, and equipment with onsite and offsite renewable energy production. The SP provides a pathway for the installation to move toward compliance with relevant Federal mandates regarding sustainability. The INRMP is the installation's plan for managing its natural resources while ensuring the success of the military mission. The IPMP is the installation's plan for its pest management program.

Implementation of the NZEP, SP, INRMP, and IPMP would enable the installation to reduce energy and fossil fuel use, increase alternative fuel use, achieve a net-zero energy footprint, meet or exceed relevant Federal sustainability mandates, practice sound natural resources stewardship, comply with environmental policies and regulations, and reduce reliance on pesticides while reducing real property damage and maintenance costs.

Description of the No Action Alternative: Under the No Action Alternative, DLA would not implement the installation's RPMP or its component plans. In general, implementation of the No Action Alternative would require that DLA continue to use the existing outdated, undersized, and inefficient facilities and abandon the proposed infrastructure enhancements, sustainability improvements, and natural resources projects of the component plans, which would hamper the ability of the installation to meet its current and future mission requirements. The No Action Alternative would not meet the purpose of and need for the Proposed Action.

Potential Environmental Impacts: No significant effects on environmental resources would be expected from the Proposed Action. Insignificant, adverse effects on recreation, geological resources, water resources, and transportation and infrastructure would be expected. Insignificant, beneficial effects on airspace management and safety, land use and recreation, noise, air quality, geological resources, water resources, biological resources, transportation and infrastructure, and hazardous materials and wastes also would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any Federal, state, or local laws. Based on the results of the analyses performed during preparation of the EA, Mr. Marvin Wenberg, Acting Director, DLA Installation Support, concludes that implementation of the RPMP and its component plans at Defense Distribution Center, Susquehanna, Pennsylvania, does not constitute a major Federal action significantly affecting the quality of the human environment within the context of NEPA. Therefore, an environmental impact statement for the Proposed Action is not required.

Dated: January 23, 2015.
Aaron Siegel,
Alternate OSD Federal Register Liaison Officer, Department of Defense.

[FR Doc. 2015-01641 Filed 1-28-15; 8:45 am]

BILLING CODE 5001-06-P